DEPARTMENT OF TRANSPORTATION

Federal Aviation Administration

14 CFR Part 71

[Docket No. FAA-2024-2352; Airspace Docket No. 24-AEA-4]

RIN 2120-AA66

Establishment of United States Area Navigation Route Q-161 and Amendment of United States Area Navigation Routes Q-97, Q-133, Q-437, Q-439, Q-445, and Q-481; Eastern United States

AGENCY: Federal Aviation Administration (FAA), DOT.

ACTION: Supplemental Notice of Proposed Rulemaking (SNPRM).

SUMMARY: This action adds the proposed amendment of United States Area Navigation (RNAV) Route Q-409 that was inadvertently omitted from the NPRM for Docket No. FAA-2024-2352. Additionally, this action corrects the OYVAY waypoint (WP) state location to Delaware in RNAV Route Q-437. This action supports the Northeast Corridor Atlantic Coast Route (NEC ACR) Optimization Project to improve the efficiency of the National Airspace System (NAS).

DATES: Comments must be received on or before January 21, 2025.

ADDRESSES: Send comments identified by FAA Docket No. FAA-2024-2352 and Airspace Docket No. 24-AEA-4 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the NAS.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

United States Area Navigation Routes (Q-Routes) are published in paragraph 2006 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA published a notice of proposed rulemaking for Docket No. FAA-2024-2352 in the Federal Register (89 FR 85455; October 28, 2024) to establish United States RNAV Route Q-161 and amend RNAV Routes Q-97, Q-133, Q-437, Q-439, Q-445, and Q-481 in the eastern United States. Subsequent to the NPRM's publication, the FAA identified that that the OYVAY WP was inadvertently listed as “OA”, which when listed in place of a two-letter state abbreviation, the “OA” means “Offshore Atlantic”. However, the OYVAY WP is listed in the National Airspace System Resource (NASR) database as being in the state of Delaware.

Additionally, the FAA identified that in the proposed amendment to RNAV Route Q-437, the OYVAY, DE, WP would be moved 1.26 nautical miles south of its currently published position. The minor adjustment of the position of the OYVAY WP would require an amendment to RNAV Route Q-409 that also contains this route point. This SNPRM adds the amendment of Q-409 and the correction to the state designation of the OYVAY WP to Docket No. FAA-2024-2352.

The Proposal

The FAA is proposing an amendment to 14 CFR part 71 to amend RNAV Route Q-409 and Q-439 in the eastern United States. This action supports the NEC ACR Optimization Project to improve the efficiency of the NAS. The proposed route change is described below.

Q-409: Q-409 currently extends between the ENEME, GA, WP and the WHITE, NJ, Fix. The FAA is changing the geographic coordinates of the OYVAY, DE, WP from “lat. 39°02′18.85″ N, long. 075°26′18.04″ W” to “lat. 39°01′03.58″ N, long. 075°26′28.07″ W” in June 2025. The FAA proposes to modify the geographic coordinates of the OYVAY WP in the route description of RNAV Route Q-409. Additionally, the FAA proposes to remove the SESUE, SC, WP and the CRPLR, VA, WP from the route description as they are a turn of less than one degree. Lastly, the FAA identified that the geographic coordinates listed in the route description for the VILLS, NJ, WP are incorrect. The FAA proposes to update the geographic coordinates for the VILLS WP in to match the geographic coordinates listed in the NASR database. The VILLS WP geographic coordinates would be changed from “lat. 39°18′03.87″ N, long. 075°06′37.89″ W” to “lat. 39°18′03.87″ N, long. 075°06′37.90″ W”. As amended, the route would continue to extend between the ENEME WP and the WHITE Fix.

Q-437: The FAA corrects the state designation of the OYVAY WP in the route description of RNAV Route Q-437 to match the NASR database. The OYVAY WP is changed from “OYVAY, OA, WP” to “OYVAY, DE, WP”.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2006 United States Area Navigation Routes.

* * * * *

Q-409 ENEME, GA to WHITE, NJ [Amended]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
OKNEE, SC | WP | (Lat. 34°15′39.92″ N, long. 079°10′40.68″ W)
MRPIT, NC | WP | (Lat. 34°26′05.09″ N, long. 079°01′45.10″ W)
GUILD, NC | WP | (Lat. 36°18′49.56″ N, long. 077°14′59.96″ W)
TRPOD, MD | WP | (Lat. 38°20′20.33″ N, long. 075°32′01.85″ W)
OYVAY, DE | WP | (Lat. 39°01′03.58″ N, long. 075°26′28.07″ W)
VILLS, NJ | WP | (Lat. 39°18′03.87″ N, long. 075°06′37.90″ W)
Coyle, NJ (CYN) | VORTAC | (Lat. 39°49′02.42″ N, long. 074°25′53.85″ W)
WHITE, NJ | FIX | (Lat. 40°00′24.32″ N, long. 074°15′04.61″ W)

* * * * *

Q-437 CRPLR, VA to PONCT, NY [Amended]
CRPLR, VA | WP | (Lat. 37°36′24.01″ N, long. 076°09′57.67″ W)
TRPOD, MD | WP | (Lat. 38°20′20.33″ N, long. 075°32′01.85″ W)
OYVAY, DE | WP | (Lat. 39°01′03.58″ N, long. 075°26′28.07″ W)
VILLS, NJ | WP | (Lat. 39°18′03.87″ N, long. 075°06′37.90″ W)
SIZZR, NJ | WP | (Lat. 39°33′57.22″ N, long. 074°53′58.83″ W)
METRO, NJ | WP | (Lat. 40°25′21.77″ N, long. 074°40′10.30″ W)
CLAUS, NJ | WP | (Lat. 40°48′50.07″ N, long. 074°10′08.96″ W)
GANDE, NY | WP | (Lat. 41°30′36.66″ N, long. 073°48′52.03″ W)
PONCT, NY | WP | (Lat. 42°44′48.83″ N, long. 073°48′48.07″ W)

* * * * *

Issued in Washington, DC, on December 16, 2024.
Richard Lee Parks,
Manager (A), Rules and Regulations Group.

[FR Doc. 2024-30282 Filed 12-18-24; 8:45 am]

BILLING CODE 4910-13-P